DEPARTMENT OF TRANSPORTATION

Federal Aviation Administration

Aviation Rulemaking Advisory Committee; General Aviation Certification and Operations Issues—New Task

AGENCY: Federal Aviation Administration (FAA), DOT.

ACTION: Notice of new task assignment for the Aviation Rulemaking Advisory Committee (ARAC).

SUMMARY: The FAA assigned the Aviation Rulemaking Advisory Committee a new task to evaluate changing the requirements in Section 23.177 for demonstrating positive dihedral effect in all land gear and flap positions. This notice is to inform the public of this ARAC activity.

FOR FURTHER INFORMATION CONTACT: Mike Dahl, Federal Aviation Administration, Central Region Headquarters, 901 Locust, Kansas City, Missouri, 64106, (816) 329-4110. mike.dahl@faa.gov

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

1. Review § 23.177 and JAR 23 and recommend harmonized changes to § 23.177 for demonstrating positive dihedral effect in all landing gear and flap positions. (Extending the flaps often decreases the dihedral effect to zero. An aileron rudder interconnect is often installed to correct the problem when dihedral effect in the landing flap configuration is not wanted.)

2. Prepare a draft Notice of Proposed Rulemaking (NPRM) incorporating the recommendations. The NPRM should include the preamble and rule language along with any supporting legal analysis.

Schedule: This task is to be accomplished no later than December 10, 2001.

ARAC Acceptance of Task

ARAC accepted the task and assigned the task to the newly formed Static Directional and Lateral Stability Harmonization Working Group, General Aviation Certification and Operations Issues. The working group will serve as staff to ARAC and assist in the analysis of the assigned task. ARAC must review and approve the working group's recommendations. If ARAC accepts the working group's recommendations, it will forward them to the FAA. Recommendations that are received from ARAC will be submitted to the agency's Rulemaking Management Council to address the availability of resources and prioritization.

Working Group Activity

The Static Directional and Lateral Stability Harmonization Working Group is expected to comply with the procedures adopted by ARAC. As part of the procedures, the working group is expected to:

1. Recommend a work plan for completion of the task, including the rationale supporting such a plan for consideration at the next meeting of the ARAC on general aviation certification and operations issues held following publication of this notice.

2. Give a detailed conceptual presentation of the proposed recommendations prior to proceeding with the work stated in item 3 below.

3. Draft the appropriate documents and required analyses and/or any other related materials or documents.

4. Provide a status report at each meeting of the ARAC held to consider general aviation certification and operations issues.

Participation in the Working Group

The Static Directional and Lateral Stability Harmonization Working Group will be composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than June 29, 2001. The requests will be reviewed by the co-assistant chairs, the co-assistant executive directors, and the working group co-chairs. Individuals will be advised whether or not their request can be accommodated.

Individuals chosen for membership on the working group will be expected to represent their aviation community segment and actively participate in the working group (e.g., attend all meetings, provide written comments when requested to do so, etc.). They also will be expected to devote the resources necessary to support the working group in meeting any assigned deadlines. Members are expected to keep their management chain and those they may represent advised of working group activities and decisions to ensure that the proposed technical solutions do not conflict with their sponsoring organization's position when the subject being negotiated is presented to ARAC for approval.

Once the working group has begun deliberations, members will not be added or substituted without the approval of the co-assistant chairs, the co-assistant executive directors, and the working group co-chairs.

The Secretary of Transportation determined that the formation and use of the ARAC is necessary and in the public interest in connection with the performance of duties imposed on the FAA by law.

Meetings of the ARAC will be open to the public. Meetings of the Static Directional and Lateral Stability Harmonization Working Group will not be open to the public, except to the extent that individuals with an interest and expertise are selected to participate. The FAA will make no public announcement of working group meetings.

Issued in Washington, DC, on June 1, 2001.
Anthony F. Fazio,
Executive Director, Aviation Rulemaking Advisory Committee.

[FR Doc. 01-14235 Filed 6-5-01; 8:45 am]

BILLING CODE 4910-13-M